DEPARTMENT OF COMMERCE

Foreign-Trade Zones Board

[B-61-2020]

Foreign-Trade Zone (FTZ) 176—Rockford, Illinois; Notification of Proposed Production Activity, Tricida Inc. (Pharmaceutical Products), Rockford, Illinois

PCI Pharma Services, an operator within FTZ 176 in Rockford, Illinois, submitted a notification of proposed production activity to the FTZ Board on behalf of Tricida Inc. (Tricida). The notification conforming to the requirements of the regulations of the FTZ Board (15 CFR 400.22) was received on October 14, 2020.

The proposed production facilities are located within FTZ 176. The facilities are used for the production of pharmaceutical products. Pursuant to 15 CFR 400.14(b), FTZ activity would be limited to the specific foreign-status material/component and specific finished product described in the submitted notification (as described below) and subsequently authorized by the FTZ Board.

Production under FTZ procedures could exempt Tricida from customs duty payments on the foreign-status component used in export production. On its domestic sales, for the foreign-status material/component noted below, Tricida would be able to choose the duty rate during customs entry procedures that applies to Veverimer (TRC101)—medicament in measured doses (duty free). Tricida would be able to avoid duty on foreign-status components which become scrap/waste. Customs duties also could possibly be deferred or reduced on foreign-status production equipment.

The material/component sourced from abroad is a synthetic polymer with an average of at least five monomer units (poly(allylamine-co-N,N′-diallyl-1,3-diaminopropaneco-1,2-diaminoethane) (duty rate 6.5%). The request indicates that the material/component is subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is November 30, 2020.

A copy of the notification will be available for public inspection in the “Reading Room” section of the Board's website, which is accessible via www.trade.gov/ftz.

For further information, contact Chris Wedderburn at Chris.Wedderburn@trade.gov or (202) 482-1963.

Dated: October 16, 2020.
Andrew McGilvray,
Executive Secretary.

[FR Doc. 2020-23274 Filed 10-20-20; 8:45 am]

BILLING CODE 3510-DS-P